DEPARTMENT OF TRANSPORTATION

Federal Aviation Administration

14 CFR Part 39

[Docket No. FAA-2015-1935; Directorate Identifier 2014-SW-008-AD]

RIN 2120-AA64

Airworthiness Directives; Agusta S.p.A. Helicopters

AGENCY: Federal Aviation Administration (FAA), DOT.

ACTION: Notice of proposed rulemaking (NPRM).

SUMMARY: We propose to adopt a new airworthiness directive (AD) for Agusta S.p.A. (Agusta) Model AB139 and AW139 helicopters. This proposed AD would require visually inspecting certain subfloor frames for a crack. This proposed AD is prompted by reports of cracks on in-service helicopters. The proposed actions are intended to detect or prevent a crack in the subfloor frame, which could result in failure of the pilot and co-pilot pedal support frame and subsequent loss of control of the helicopter.

DATES: We must receive comments on this proposed AD by August 4, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2014-0048, dated March 4, 2014, to correct an unsafe condition for Agusta Model AB139 and AW139 helicopters with a serial number (S/N) 31005 through 31517 (except S/N 31007, 31415, 31431, 31491, 31500, 31508, and 31516) and S/N 41001 through 41356 (except S/N 41355). EASA advises that cracks have been reported in the subfloor frame at station (STA) 2105 on in-service helicopters. This condition, if not detected and corrected, could lead to failure of the pedals supporting the frame, which in turn could lead to the pedals being inoperative and subsequent loss of control of the helicopter, EASA advises.

The EASA AD requires repetitive inspections of the subfloor frame at STA 2105 for a crack. The EASA AD also requires installation of frame reinforcements before further flight if there is a crack or within 1,200 flight hours if there is no crack. The EASA AD provides that installation of the frame reinforcements constitutes terminating action for the repetitive inspections required by the AD.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information Under 1 CFR Part 51

We reviewed AgustaWestland Bolletino Tecnico No. 139-311, Revision B, dated June 4, 2014 (BT), for certain serial-numbered Agusta Model AB139 and AW139 helicopters. The BT calls for visual inspections of the subfloor frames within 30 flight hours or two months, whichever occurs first, and thereafter at intervals of 300 flight hours or 6 months, whichever comes first, until frame reinforcements are installed to prevent future failures. The BT also specifies installing the frame reinforcements immediately if a crack is found and within 1,200 flight hours if a crack is not found. This service information is reasonably available because the interested parties have access to it through their normal course of business or by the means identified in the ADDRESSES section of this NPRM.

Proposed AD Requirements

This proposed AD would require:

• Within 30 hours time-in-service (TIS) and thereafter at intervals not to exceed 300 hours TIS, using a light, inspecting all visible surfaces of the subfloor frames at station (STA) 2105 for a crack.

• If there is a crack, before further flight, and if there are no cracks, within 1200 hours TIS, installing frame STA 2105 retromod part number (P/N) 3G5306P47211. This terminates the repetitive inspection requirements of this AD.

Differences Between This Proposed AD and the EASA AD

The EASA AD requires conducting the initial inspection within 30 flight hours or 2 months, whichever occurs first, and thereafter, at intervals not to exceed 300 flight hours or 6 months, whichever occurs first. The proposed AD would require conducting the initial inspection within 30 TIS, and thereafter, at intervals not to exceed 300 hours TIS.

Costs of Compliance

We estimate that this proposed AD would affect 102 U.S.-registered helicopters and that labor costs average $85 a work hour. Based on these estimates, we expect the following costs:

• The visual inspection would require 2 work-hours for a labor cost of $170 per helicopter. No parts would be needed, so the cost would total $170 per helicopter, $17,340 for the U.S. fleet.

• If there are no cracks, installing the frame reinforcements would require 240 work-hours for a labor cost of $20,400 and parts would cost $2,274. The total cost would be $22,674 per helicopter.

• If there is a crack, installing the frame reinforcements would require 240 work-hours for a labor cost of $20,400 and parts would cost $3,401. The total cost would be $23,801 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.p.A.: Docket No. FAA-2015-1935; Directorate Identifier 2014-SW-008-AD.

(a) Applicability

This AD applies to Agusta S.p.A. Model AB139 and AW139 helicopters, serial number (S/N) 31005 through 31517 (except S/N 31007, 31415, 31431, 31491, 31500, 31508, and 31516) and S/N 41001 through 41356 (except S/N 41355), certificated in any category.

(b) Unsafe Condition

This AD defines the unsafe condition as a crack in a subfloor frame. This condition could result in failure of the pilot and co-pilot pedal support frame and subsequent loss of control of the helicopter.

(c) Comments Due Date

We must receive comments by August 4, 2015.

(d) Compliance

You are responsible for performing each action required by this AD within the specified compliance time unless it has already been accomplished prior to that time.

(e) Required Actions

(1) Within 30 hours time-in-service (TIS) and thereafter at intervals not to exceed 300 hours TIS, using a light, inspect all visible surfaces of the left hand subfloor frame, right hand subfloor frame, and middle subfloor frame at station (STA) 2105 for a crack as shown in Figures 10 through 13 of AgustaWestland Bollettino Tecnico No. 139-311, Revision B, dated June 4, 2014 (BT 139-311).

(2) If there is a crack, before further flight, install frame STA 2105 retromod part number (P/N) 3G5306P47211 by following the Compliance Instructions, Part II, paragraphs 7 through 7.10. of BT 139-311.

(3) If there are no cracks, within 1200 hours TIS, install frame STA 2105 retromod P/N 3G5306P47211 by following the Compliance Instructions, Part II, paragraphs 7 through 7.10. of BT 139-311.

(4) Installing frame STA 2105 retromod P/N 3G5306P47211 terminates the repetitive inspection requirements in paragraph (e)(1) of this AD.

(f) Special Flight Permit

Special Flight Permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in the European Aviation Safety Agency (EASA) No. 2014-0048, March 4, 2014. You may view the EASA AD on the Internet at http://www.regulations.gov in the AD Docket.

(i) Subject

Joint Aircraft Service Component (JASC) Code: 5300, Fuselage Structure (General).

Issued in Fort Worth, Texas, on May 26, 2015.
Lance T. Gant,
Acting Directorate Manager, Rotorcraft Directorate, Aircraft Certification Service.

[FR Doc. 2015-13354 Filed 6-4-15; 8:45 am]

BILLING CODE 4910-13-P